DEPARTMENT OF ENERGY

Federal Energy Regulatory Commission

[Project No. 2467-020]

Pacific Gas and Electric Company; Notice of Application Tendered for Filing With the Commission and Establishing Procedural Schedule for Licensing and Deadline for Submission of Final Amendments

Take notice that the following hydroelectric application has been filed with the Commission and is available for public inspection.

a. Type of Application: New License.

b. Project No.: 2467-020.

c. Date Filed: February 8, 2012.

d. Applicant: Pacific Gas and Electric Company (PG&E).

e. Name of Project: Merced Falls Hydroelectric Project.

f. Location: The existing project is located on the Merced River on the border of Merced and Mariposa counties, California, immediately downstream of the Merced River Hydroelectric Project (No. 2179), operated by the Merced Irrigation District (MID). The project would occupy 1.62 acres of federal land managed by the Bureau of Land Management.

g. Filed Pursuant to: Federal Power Act, 16 U.S.C. 791 (a)-825(r).

h. Applicant Contact: Pacific Gas and Electric Company, Power Generation, P.O. Box 770000, MC N11C, San Francisco, CA 94177-0001; Telephone (415) 973-7000.

i. FERC Contact: Matt Buhyoff, (202) 502-6824 or matt.buhyoff@ferc.gov.

j. This application is not ready for environmental analysis at this time.

k. The Project Description:

The existing Merced Falls Hydroelectric Project consists of: (1) A concrete gravity dam with a structural height of 34 feet, and a crest length of 575 feet; (2) three radial gates, each 20 feet in length and 13.5 feet high; (3) a 1-mile-long project impoundment with approximately 900 acre-feet of storage capacity, a useable storage capacity of approximately 579 acre-feet, a total surface area of approximately 65 acres, and a normal impoundment elevation of 344 feet above mean sea level; (4) powerhouse facilities consisting of a steel building housing a 3.4-megawatt (MW) turbine/generator unit and a vertical Kaplan-type four-blade turbine; (5) a 1,000-foot-long earthen levee with a crest width of 8 feet; (6) an adjacent intake structure with a debris rack; and (7) a non-operable fish ladder.

The Merced Falls Project is operated in a run-of-river mode dependent on water outflow from MID's upstream Merced River Project (FERC No. 2179). Inflow to the project passes through the impoundment, which is kept at a constant water elevation and then either through the powerhouse or the dam's radial gates. Flows of up to approximately 1,750 cubic feet per second (cfs) are diverted through the powerhouse, and then discharged to the Merced River via the tailrace. When water inflows exceed 2,200 cfs, the project spills water through the radial gates. During flood events with flows greater than 12,250 cfs, the needle beams can be dropped, allowing the 575-foot-long concrete section of the dam to act as a spillway.

The project has a dependable capacity of 1.7 MW and an annual average generation of approximately 13.5 gigawatt-hours. PG&E is not proposing any new or upgraded facilities or structural changes to the project. PG&E proposes to modify the project boundary by removing approximately 4.8 acres of licensee-owned lands, which PG&E indicates are not needed for project purposes.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate:

Milestone | Target date
Notice of Acceptance/Notice of Ready for Environmental Analysis (when FERC approved studies are complete) | November 2013.
Filing of recommendations, preliminary terms and conditions, and fishway prescriptions | January 2014.
Commission issues Draft EA or EIS | July 2014.
Comments on Draft EA or EIS | August 2014.
Modified Terms and Conditions | November 2014.
Commission Issues Final EA or EIS | February 2015.

o. Final amendments to the application must be filed with the Commission no later than 30 days from the issuance date of the notice of ready for environmental analysis.

Dated: February 22, 2012.
Kimberly D. Bose,
Secretary.

[FR Doc. 2012-4775 Filed 2-28-12; 8:45 am]

BILLING CODE 6717-01-P